FEDERAL MARITIME COMMISSION

Sunshine Act Meeting

Agency Holding the Meeting: Federal Maritime Commission.

Time and Date: October 27, 2010-10 a.m.

Place: 800 North Capitol Street, NW., First Floor Hearing Room, Washington, DC.

Status: Part of the meeting will be in Open Session and the remainder of the meeting will be in Closed Session.

Matters to be Considered:

Open Session

1. Staff Briefing on the 2010 Asia-Pacific Economic Cooperation—33rd Transportation Working Group Meeting.

2. Commission Review of the Impact of the European Union Repeal of the Liner Conference Block Exemption—Staff Recommendation and Draft Notice of Inquiry.

Closed Session

1. Staff Briefing on Reporting Requirement Options for Global Vessel Alliances.

2. Staff Briefing on Semi-Annual Meeting with the Transpacific Stabilization Agreement, FMC Agreement No. 011223.

3. Staff Briefing Regarding China Maritime Regulatory Issues.

Contact Person For More Information: Karen V. Gregory, Secretary, (202) 523-5725.

Karen V. Gregory,
Secretary.

[FR Doc. 2010-26992 Filed 10-21-10; 11:15 am]

BILLING CODE 6730-01-P